GENERAL SERVICES ADMINISTRATION

41 CFR Part 102-84

[FMR Case 2018-102-8; Docket 2018-0009; Sequence 1]

RIN 3090-AJ72

Federal Management Regulation; Annual Real Property Inventories

AGENCY: Office of Government-wide Policy (OGP), General Services Administration (GSA).

ACTION: Direct final rule; request for comments.

SUMMARY: The General Services Administration (GSA) is issuing a direct final rule to remove and reserve regulations regarding the Federal Management Regulation (FMR). The regulations contain ambiguous and outdated provisions regarding reporting requirements, as well as references to systems and forms that are no longer used by agencies or GSA. The regulations are also unnecessary as a result of the Federal Assets Sale and Transfer Act of 2016 and the Federal Property Management Reform Act of 2016, which require executive agencies to report real property data annually to GSA.

DATES: Effective date: October 22, 2018.

Comment date: Interested parties should submit written comments to the Regulatory Secretariat Division at one of the addresses shown below on or before September 21, 2018. If an adverse comment or notice of intent to file an adverse comment is received within the specified comment period, GSA will publish a document in the Federal Register withdrawing this rule prior to the effective date.

ADDRESSES: Submit comments in response to FMR Case 2018-102-8 by any of the following methods:

• Regulations.gov: http://www.regulations.gov. Submit comments via the Federal Rulemaking Portal by entering “FMR Case 2018-102-8” under the heading “Enter Keyword or ID” and select “Search”. Select the link “Submit a Comment” that corresponds with “FMR Case 2018-102-8” and follow the instructions provided at the “Comment Now” screen. Please include your name, company name (if any), and “FMR Case 2018-102-8” on your attached document.

• Mail: General Services Administration, Regulatory Secretariat (MVCB), ATTN: Ms. Lois Mandell, 1800 F Street NW, Washington, DC 20405.

Instructions: Please submit comments only and cite FMR Case 2018-102-8 in all correspondence related to this case. All comments received will be posted without change to http://www.regulations.gov, including any personal and business confidential information provided. To confirm receipt of your comment(s), please check http://www.regulations.gov approximately two to three days after submission to verify posting (except allow 30 days for posting of comments submitted by mail).

FOR FURTHER INFORMATION CONTACT: For clarification of content, contact Ms. Aluanda Drain, Director, Real Property Policy Division, Office of Government-wide Policy, at 202-501-1624, or aluanda.drain@gsa.gov. For information pertaining to status or publication schedules, contact the Regulatory Secretariat Division (MVCB), 1800 F Street NW, Washington, DC 20405, 202-501-4755. Please cite FMR Case 2018-102-8.

SUPPLEMENTARY INFORMATION:

A. Background

Federal agencies annually reported real property assets as a result of the Senate Committee on Appropriations request that the Government maintain an Annual Real Property Inventory. Executive Order (E.O.) 12411, Government Work Space Management Reforms, dated March 29, 1983 (48 FR 13391, 3 CFR, 1983 Comp., p. 155), requires Executive agencies to produce and maintain a total inventory of work space and related furnishings, and declare excess to the Administrator of General Services all such holdings that are not necessary to satisfy existing or known and verified planned programs. It further requires agencies to establish information systems, implement inventory controls and conduct surveys in accordance with procedures established by the Administrator of General Services, so that a government-wide reporting system may be developed.

E.O. 13327, Federal Real Property Asset Management, dated February 4, 2004 (69 FR 5897), required that the Administrator of General Services, in consultation with the Federal Real Property Council, establish and maintain a single, comprehensive and descriptive database of all real property under the custody and control of all executive branch agencies, except when otherwise required for reasons of national security. This E.O. authorized the Administrator to collect from each Executive agency such descriptive information, except for classified information, as the Administrator considers will best describe the nature, use, and extent of real property holdings of the Federal Government.

Since the last part 102-84 regulatory update in January 2008 to incorporate the guidance of E.O. 13327, the E.O. has been amended. More recently two laws were enacted, the Federal Assets Sales and Transfer Act of 2016 (Pub. L. 114-287) and the Federal Property Management Reform Act of 2016 (Pub. L. 114-318) that create a statutory requirement for a publicly accessible federal real property database and require executive agencies to report real property data annually to GSA.

Therefore, part 102-84, Annual Real Property Inventories, is unnecessary and outdated, and under the authority of 40 U.S.C. 121(c), GSA is removing part 102-84, Annual Real Property Inventories, and reserving it.

B. Executive Orders 12866 and 13563

E.O.s 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. GSA has determined that this direct final rule is not a significant regulatory action and is not subject to review under section 6(b) of E.O. 12866. GSA has further determined that this direct final rule is not a major rule under 5 U.S.C. 804.

C. Executive Order 13771

This direct final rule is not subject to the requirements of E.O. 13771 because it is related to agency organization, management, or personnel.

D. Regulatory Flexibility Act

This direct final rule will not have a significant economic impact on a substantial number of entities within the meaning of the Regulatory Flexibility Act, 5 U.S.C. 601 et seq. This direct final rule is also exempt from the Administrative Procedures Act per 5 U.S.C. 553(a)(2), because it applies to agency management or personnel.

E. Paperwork Reduction Act

The Paperwork Reduction Act does not apply because the changes to the FMR do not impose recordkeeping or information collection requirements, or the collection of information from offerors, contractors, or members of the public that require the approval of the Office of Management and Budget under 44 U.S.C. 3501 et seq.

F. Small Business Regulatory Enforcement Fairness Act

This direct final rule is exempt from Congressional review under 5 U.S.C. 801 since it relates solely to agency management and personnel.

List of Subjects in 41 CFR Part 102-84

Federal buildings and facilities, Government property management.

Dated: August 14, 2018.
Emily W. Murphy,
Administrator.

PART 102-84—[REMOVED AND RESERVED]

For the reasons stated in the preamble, and under the authority of 40 U.S.C. 121(c), GSA is removing and reserving 41 CFR part 102-84, consisting of sections 102-84.5 through 102-84.55.

[FR Doc. 2018-18041 Filed 8-21-18; 8:45 am]

BILLING CODE 6820-14-P